DEPARTMENT OF COMMERCE

Foreign-Trade Zones Board

[B-36-2023]

Foreign-Trade Zone (FTZ) 142, Notification of Proposed Production Activity; Nexsus Cocoa Services LLC; (Cocoa or Cocoa Equivalent and Sugar Blends); Southern New Jersey

Nexsus Cocoa Services LLC submitted a notification of proposed production activity to the FTZ Board (the Board) for its facility in Southern New Jersey, within FTZ 142. The notification conforming to the requirements of the Board's regulations (15 CFR 400.22) was received on June 1, 2023.

Pursuant to 15 CFR 400.14(b), FTZ production activity would be limited to the specific foreign-status material(s)/component(s) and specific finished product(s) described in the submitted notification (summarized below) and subsequently authorized by the Board. The benefits that may stem from conducting production activity under FTZ procedures are explained in the background section of the Board's website—accessible via www.trade.gov/ftz.

The proposed finished products include: cocoa liquor (not defatted; wholly or partly defatted); cocoa butter; cocoa powder; wholesale cocoa liquor blend, containing less than 60% by weight sugar, in blocks or slabs weighing 4.5 kg or more each; wholesale liquid cocoa liquor blend, containing less than 60% by weight sugar, of a content greater than 2 kg in bulk form; wholesale cocoa powder blend, containing less than 65% by weight sugar; wholesale cocoa butter blend, containing less than 65% by weight sugar; wholesale shea butter blend, containing less than 65% by weight sugar; wholesale palm oil blend, containing less than 65% by weight sugar; wholesale illipe butter blend, containing less than 65% by weight sugar; wholesale sal butter blend, containing less than 65% by weight sugar; wholesale kokum butter blend, containing less than 65% by weight sugar; and, wholesale mango seed oil blend, containing less than 65% by weight sugar (duty free to 10%; 0.2¢/kilogram (kg) to 28.8¢/kg + 8.5%).

The proposed foreign-status materials and components include: refined white sugar; cocoa liquor (not defatted; wholly or partly defatted); cocoa butter; cocoa powder (no sugar); cocoa cake (wholly or partly defatted); shea butter; palm oil; illipe butter; sal butter; kokum butter; and, mango seed oil (duty rate is duty free to 3.2%; 3.6606 ¢/kg less 0.020668 ¢/kg for each degree under 100 degrees (and fractions of a degree in proportion) but not less than 3.143854¢/kg; 35.74¢/kg; 0.2¢/kg to 0.52¢/kg). The request indicates that certain materials/components are subject to duties under section 301 of the Trade Act of 1974 (section 301), depending on the country of origin. The applicable section 301 decisions require subject merchandise to be admitted to FTZs in privileged foreign status (19 CFR 146.41). The request also indicates certain types of sugar are subject to tariff-rate quotas.

Public comment is invited from interested parties. Submissions shall be addressed to the Board's Executive Secretary and sent to: ftz@trade.gov. The closing period for their receipt is July 24, 2023.

A copy of the notification will be available for public inspection in the “Online FTZ Information System” section of the Board's website.

For further information, contact Juanita Chen at juanita.chen@trade.gov.

Dated: June 6, 2023.
Elizabeth Whiteman,
Executive Secretary.

[FR Doc. 2023-12431 Filed 6-9-23; 8:45 am]

BILLING CODE 3510-DS-P